FEDERAL RESERVE SYSTEM

12 CFR Part 248

[Docket No. R-1643]

RIN 7100-AF33

FEDERAL DEPOSIT INSURANCE CORPORATION

12 CFR Part 351

RIN 3064-AE88

COMMODITY FUTURES TRADING COMMISSION

17 CFR Part 75

RIN 3038-AE72

SECURITIES AND EXCHANGE COMMISSION

17 CFR Part 255

[Release No. BHCA-6; File No. S7-30-18]

RIN 3235-AM43

Revisions to Prohibitions and Restrictions on Proprietary Trading and Certain Interests in, and Relationships With, Hedge Funds and Private Equity Funds

AGENCY: Board of Governors of the Federal Reserve System (Board); Federal Deposit Insurance Corporation (FDIC); Securities and Exchange Commission (SEC); and Commodity Futures Trading Commission (CFTC), collectively, the Agencies.

ACTION: Final rule; correction.

SUMMARY: The Agencies published a final rule in the Federal Register on July 22, 2019, that adopted final rules to amend regulations implementing Section 13 of the Bank Holding Company Act (the Volcker Rule) in a manner consistent with the statutory amendments made pursuant to certain sections of the Economic Growth, Regulatory Relief, and Consumer Protection Act. This document corrects errors in amendatory instructions in the rule.

DATES: Effective August 6, 2019.

FOR FURTHER INFORMATION CONTACT:

Board: Flora Ahn, Special Counsel, (202) 452-2317, Gregory Frischmann, Senior Counsel, (202) 452-2803, Kirin Walsh, Attorney, (202) 452-3058, or Sarah Podrygula, Attorney, (202) 912-4658, Legal Division, Board of Governors of the Federal Reserve System, 20th and C Streets NW, Washington, DC 20551.

FDIC: Michael B. Phillips, Counsel, mphillips@fdic.gov, Benjamin J. Klein, Counsel, bklein@fdic.gov, or Annmarie H. Boyd, Counsel, aboyd@fdic.gov, Legal Division, Federal Deposit Insurance Corporation, 550 17th Street NW, Washington, DC 20429.

SEC: Andrew R. Bernstein, Senior Special Counsel, Sam Litz, Attorney-Adviser, Aaron Washington, Special Counsel, Office of Derivatives Policy and Trading Practices, Division of Trading and Markets, U.S. Securities and Exchange Commission, 100 F Street NE, Washington, DC 20549.

CFTC: Cantrell Dumas, Special Counsel, (202) 418-5043, cdumas@cftc.gov; Mark Fajfar, Assistant General Counsel, (202) 418-6636, mfajfar@cftc.gov, Office of the General Counsel; Commodity Futures Trading Commission, Three Lafayette Centre, 1155 21st Street NW, Washington, DC 20581.

SUPPLEMENTARY INFORMATION: This document corrects errors in amendatory instructions in a final rule published on July 22, 2019, affecting 12 CFR 248.11, 12 CFR 351.11, 17 CFR 75.11, and 17 CFR 255.11 of the Agencies' regulations.

Correction

In final rule FR Doc. 2019-15019 published in the Federal Register on July 22, 2019 (84 FR 35008), beginning on page 35020, make the following corrections:

1. On page 35020, in the third column, correct amendatory instruction 11 to read as follows:

“11. Revise paragraph (a)(6) to read as follows:”

2. On page 35021, in the second column, correct amendatory instruction 16 to read as follows:

“16. Revise paragraph (a)(6) to read as follows:”

3. On page 35022, in the first column, correct amendatory instruction 21 to read as follows:

“21. Revise paragraph (a)(6) to read as follows:”

4. On page 35022, in the second column, correct amendatory instruction 26 to read as follows:

“26. Revise paragraph (a)(6) to read as follows:”

Board of Governors of the Federal Reserve System, July 26, 2019.
Ann E. Misback,
Secretary of the Board.
Federal Deposit Insurance Corporation.
Dated at Washington, DC, on July 23, 2019.
Valerie J. Best,
Assistant Executive Secretary.
Issued in Washington, DC, on July 23, 2019, by the Commission.
Christopher Kirkpatrick,
Secretary of the Commission.
By the Securities and Exchange Commission
Dated: July 23, 2019.
J. Lynn Taylor,
Assistant Secretary.

[FR Doc. 2019-16634 Filed 8-5-19; 8:45 am]

BILLING CODE 8011-01-P